DEPARTMENT OF THE INTERIOR

Bureau of Land Management

[OR-010-1020-DF; HAG 08-0005]

Southeast Oregon Resource Advisory Council: Meeting

Pursuant to the Federal Advisory Committee Act, the Department of the Interior Bureau of Land Management (BLM) announces the following advisory committee meeting:

Name: Southeast Oregon Resource Advisory Council.

Time and Date: 1 p.m. November 8, 2007; 8 a.m. November 9, 2007.

Place: Bureau of Land Management, Burns District Office, 28910 Hwy 20 West, Hines, Oregon 97738.

Status: Open to the public.

Matters to be Considered: The Resource Advisory Council will consider ecology based ecosystem restoration initiatives, fire rehabilitation grazing criteria and transportation planning efforts for Oregon and Washington Bureau of Land Management (BLM) and U.S. Forest Service administered lands. Council members will also hear updates from Designated Federal Officials, attend a Fremont-Winema National Forests Travel Management Planning presentation, give liaison and subgroup reports, establish meeting priorities, develop agenda items for the next meeting and tour Oregon's Wild Horse Corral Facility. Any other matters that may reasonably come before the SEORAC may also be addressed.

The public is welcome to attend all portions of the meeting and may contribute during the public comment period at 4 p.m. on November 9, 2007. Those who verbally address the SEORAC during the public comment period are asked to also provide a written statement of their comments or presentation. Unless otherwise approved by the SEORAC Chair, the public comment period will last no longer than 30 minutes, and each speaker may address the SEORAC for a maximum of 5 minutes.

Contact Person for More Information: Program information, meeting records and a roster of council members may be obtained from Scott Stoffel, Public Affairs Specialist, 1301 S. G Street, Lakeview, OR 97630; (541) 947-6237. The meeting agenda will be posted at http://www.blm.gov/or/rac/seorrac-minutes.php when available.

Should you require reasonable accommodation, please contact the BLM Lakeview District at (541) 947-2177 as soon as possible.

Shirley Gammon,
District Manager.

[FR Doc. E7-20770 Filed 10-22-07; 8:45 am]

BILLING CODE 4310-33-P